DEPARTMENT OF THE INTERIOR

Fish and Wildlife Service

[Docket No. FWS-R3-ES-2020-0111; FXES11130300000-201-FF03E00000]

Endangered and Threatened Wildlife and Plants; Draft Recovery Plan for the Poweshiek Skipperling

AGENCY: Fish and Wildlife Service, Interior.

ACTION: Notice of availability and request for public comment.

SUMMARY: We, the U.S. Fish and Wildlife Service, announce the availability of the draft recovery plan for the Poweshiek skipperling, a butterfly species. We request review and comment on this draft recovery plan from local, State, and Federal agencies, and the public.

DATES: We must receive comments by September 8, 2021.

ADDRESSES:

Document availability: The draft recovery plan, along with any comments and other materials that we receive, will be available for public inspection at http://www.regulations.gov in Docket No. FWS-R3-ES-2020-0111.

Submitting Comments: You may submit comments by one of the following methods:

• Internet: http://www.regulations.gov. Search for and submit comments on Docket No. FWS-R3-ES-2020-0111.

• U.S. mail: Public Comments Processing, Attn: Docket No. FWS-R3-ES-2020-0111; U.S. Fish and Wildlife Service Headquarters, MS: PRB/3W; 5275 Leesburg Pike; Falls Church, VA 22041-3803.

For more information, see Availability of Public Comments under SUPPLEMENTARY INFORMATION.

FOR FURTHER INFORMATION CONTACT: Shauna Marquardt, by phone at 952-252-0092, via email at shauna_marquardt@fws.gov, or via the Federal Relay Service at 800-877-8339.

SUPPLEMENTARY INFORMATION: We, the U.S. Fish and Wildlife Service (Service), announce the availability of the draft recovery plan for the endangered Poweshiek skipperling (Oarisma poweshiek) for public review and comment. The Poweshiek skipperling is a small prairie butterfly most often found in remnants of native prairies and fens. The draft recovery plan includes objective, measurable criteria and management actions as may be necessary for removal of the species from the Federal List of Endangered and Threatened Wildlife. We request review and comment on this draft recovery plan from local, State, and Federal agencies, and the public.

Recovery Planning

Section 4(f) of the Endangered Species Act of 1973, as amended (Act; 16 U.S.C. 1531 et seq.), requires the development of recovery plans for listed species, unless such a plan would not promote the conservation of a particular species. Also pursuant to section 4(f) of the Act, a recovery plan must, to the maximum extent practicable, include (1) a description of site-specific management actions as may be necessary to achieve the plan's goals for the conservation and survival of the species; (2) objective, measurable criteria that, when met, would support a determination under section 4(a)(1) that the species should be removed from the List of Endangered and Threatened Species; and (3) estimates of the time and costs required to carry out those measures needed to achieve the plan's goal and to achieve intermediate steps toward that goal.

Species Background

The Poweshiek skipperling once ranged throughout the upper Midwest, from Illinois and Iowa in the south, to Michigan in the east, to North Dakota and South Dakota in the west, and southern Manitoba in the north. Currently, populations of the Poweshiek skipperling are known to occur in Michigan and Manitoba, Canada, and possibly in Wisconsin.

It is not known exactly what led to the decline in the species; however, populations are likely influenced by degradation and destruction of habitat through conversion of native prairie to cropland or development; ecological succession to woody vegetation; encroachment of invasive species; past and present fire, haying, or grazing management that degraded or destroyed the species' habitats; flooding; and, groundwater depletion, alteration, and contamination. Additionally, biocide use may have direct or indirect effects on Poweshiek skipperlings, compounding the effects of habitat curtailment. The remaining populations of the Poweshiek skipperling are small and isolated, and thus they are vulnerable to the effects of small population dynamics, further compounding the effects of other stressors.

Under the Act, the Service added the Poweshiek skipperling to the Federal List of Endangered and Threatened Wildlife as an endangered species on October 23, 2014 (79 FR 63671).

Recovery Criteria

The draft recovery criteria are summarized below. For the recovery strategy, management actions, and estimated time and costs associated with recovery, refer to the Draft Recovery Plan for the Poweshiek Skipperling (see ADDRESSES for document availability).

The ultimate recovery goal is to remove the Poweshiek skipperling from the Federal List of Endangered and Threatened Wildlife (“delist”) by ensuring the long-term viability of the species in the wild. In the recovery plan, we define the following criteria for reclassification (“downlisting” from endangered to threatened) and delisting based on the best available information on the species.

Downlisting Criteria

To downlist the Poweshiek skipperling, the following criteria should be achieved:

1. Conservation Unit 1 (Southeastern Manitoba, Northwestern Minnesota, and Northeastern North Dakota) Criteria: 6 healthy populations, with at least two populations in each of Canada and the United States.

2. Conservation Unit 2 (Southeastern North Dakota, Central and Southwestern Minnesota, Northeastern South Dakota, and Central and Northern Iowa) Criteria: 23 healthy populations distributed throughout the unit.

3. Conservation Unit 3 (Southeastern Wisconsin and Northeastern Illinois) Criteria: 2 healthy populations.

4. Conservation Unit 4 (Michigan) Criteria: 5 healthy populations.

A healthy Poweshiek skipperling population is demographically, genetically, and physically robust and occupies large areas of high-quality remnant prairie habitat.

Delisting Criteria

To delist the Poweshiek skipperling, the following criteria should be achieved:

1. Downlisting criteria have been met.

2. Threats and causes of decline have been reduced or eliminated, and mechanisms are in place that provide a high level of certainty that the downlisting criteria will continue to be met into the foreseeable future.

Availability of Public Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533(f).

Sean Marsan,
Acting Assistant Regional Director, Ecological Services, Midwest Region.

[FR Doc. 2021-16908 Filed 8-6-21; 8:45 am]

BILLING CODE P